DEPARTMENT OF TRANSPORTATION

Surface Transportation Board

[Docket No. EP 721]

New Filing Deadlines for Material Due To Be Submitted During the Federal Government Shutdown

AGENCY: Surface Transportation Board, DOT.

ACTION: Notice.

SUMMARY: The Board provides notice that any material due to be submitted to the Board during the Federal government shutdown will now be due no later than October 24, 2013. Further, submissions that arrived by mail during the shutdown will be considered received on October 17, 2013.

DATES: Effective Date: October 18, 2013.

FOR FURTHER INFORMATION CONTACT: Ryan Lee, (202) 245-0394. [Assistance for the hearing impaired is available through the Federal Information Relay Service (FIRS) at: (800) 877-8339.]

SUPPLEMENTARY INFORMATION: During the shutdown of the Federal government, from October 1, 2013, through October 16, 2013, all deadlines requiring the submission of material to the Board were tolled. The Board is now providing notice that any material due to be submitted to the Board during the shutdown is due no later than October 24, 2013. Should a party to a proceeding believe that further modification to a procedural schedule is necessary, the party should request an extension in that case docket.

Filers who made submissions by mail during the closure should not resubmit them. All submissions received by mail during the closure will be considered filed on October 17, 2013.

This action will not significantly affect either the quality of the human environment or the conservation of energy resources.

Decided: October 18, 2013.
By the Board, Rachel D. Campbell, Director, Office of Proceedings.
Jeffrey Herzig,
Clearance Clerk.

[FR Doc. 2013-24844 Filed 10-22-13; 8:45 am]

BILLING CODE 4915-01-P